GENERAL SERVICES ADMINISTRATION

48 CFR Part 552

[GSAR Change 56; GSAR Case 2012-G501; Docket No. 2013-0006; Sequence 1]

RIN 3090-AJ36

General Services Administration Acquisition Regulation (GSAR); Electronic Contracting Initiative (ECI); Correction

AGENCY: Office of Acquisition Policy, General Services Administration (GSA).

ACTION: Final rule; Correction.

SUMMARY: The General Services Administration (GSA) is issuing a correction to GSAR Change 56; GSAR Case 2012-G501; Electronic Contracting Initiative (ECI), which was published in the Federal Register at 79 FR 14182, March 13, 2014.

DATES: Effective: April 14, 2014.

FOR FURTHER INFORMATION CONTACT: Ms. Dana Munson, General Services Acquisition Policy Division, at 202-357-9652, for clarification of content. For information pertaining to status or publication schedules, contact the Regulatory Secretariat Division (MVCB), 1800 F Street NW., Washington, DC 20405, 202-501-4755. Please cite GSAR Case 2012-G501; Correction.

SUPPLEMENTARY INFORMATION: GSA published a document in the published in the Federal Register at 79 FR 14182, March 13, 2014, inadvertently section 552.238-81 contained typographical errors.

Correction

In the rule FR Doc. 2014-05409 published in the Federal Register at 79 FR 14182, March 13, 2014, make the following corrections:

1. On page 14184, in the second column, section 552.238-81, paragraph (b)(iii) remove “as described in 552.212-70, Preparation of Offer (Multiple Award Schedule), is required” and add “must be submitted in accordance with the request for proposal” in its place.

2. On page 14184, in the second column, section 552.238-81, paragraph (b)(iv) remove “GSAR 552.211-78, Commercial Delivery Schedule (Multiple Award Schedule)” and add “the request for proposal” in its place.

Authority: 40 U.S.C. 121(c).

Dated: April 7, 2014.
Jeffrey Koses,
Senior Procurement Executive, Office of Acquisition Policy, Office of Government-wide Policy.

[FR Doc. 2014-08145 Filed 4-10-14; 8:45 am]

BILLING CODE 6820-61-P